DEPARTMENT OF LABOR

Mine Safety and Health Administration

30 CFR Parts 56 and 57

[Docket No. MSHA-2014-0030]

RIN 1219-AB87

Examinations of Working Places in Metal and Nonmetal Mines

AGENCY: Mine Safety and Health Administration, Labor.

ACTION: Proposed rule; delay of effective date.

SUMMARY: On January 23, 2017, the Mine Safety and Health Administration (MSHA) published a final rule in the Federal Register amending the Agency's standards for the examination of working places in metal and nonmetal mines. MSHA is proposing to delay the effective date of the Agency's final rule to March 2, 2018. This extension would offer additional time for MSHA to provide stakeholders training and compliance assistance.

DATES: Comments must be received or postmarked by midnight Eastern Daylight Saving Time (DST) on September 26, 2017.

ADDRESSES: Submit comments and informational materials, identified by RIN 1219-AB87 or Docket No. MSHA-2014-0030, by one of the following methods:

Federal E-Rulemaking Portal: https://www.regulations.gov. Follow the on-line instructions for submitting comments.

Email: zzMSHA-comments@dol.gov.

Mail: MSHA, Office of Standards, Regulations, and Variances, 201 12th Street South, Suite 4E401, Arlington, Virginia 22202-5452.

Hand Delivery or Courier: 201 12th Street South, Suite 4E401, Arlington, Virginia, between 9 a.m. and 5 p.m. Monday through Friday, except Federal holidays. Sign in at the receptionist's desk on the 4th Floor East, Suite 4E401.

Fax: 202-693-9441.

Instructions: All submissions must include RIN 1219-AB87 or Docket No. MSHA-2014-0030. Do not include personal information that you do not want publicly disclosed; MSHA will post all comments without change, including any personal information provided.

Email Notification: To subscribe to receive email notification when MSHA publishes rulemaking documents in the Federal Register, go to https://www.msha.gov/subscriptions.

Docket: For access to the docket to read comments received, go to http://www.regulations.gov or http://www.msha.gov/currentcomments.asp. To read background documents, go to http://www.regulations.gov. Review the docket in person at MSHA, Office of Standards, Regulations, and Variances, 201 12th Street South, Arlington, Virginia, between 9 a.m. and 5 p.m. DST Monday through Friday, except Federal holidays. Sign in at the receptionist's desk on the 4th Floor East, Suite 4E401.

FOR FURTHER INFORMATION CONTACT: Sheila A. McConnell, Director, Office of Standards, Regulations, and Variances, MSHA, at mcconnell.sheila.a@dol.gov (email); 202-693-9440 (voice); or 202-693-9441 (facsimile).

SUPPLEMENTARY INFORMATION:

I. Delay of Effective Date

On January 23, 2017, MSHA published a final rule in the Federal Register (82 FR 7680) amending the Agency's standards for the examination of working places in metal and nonmetal mines. The final rule was scheduled to become effective on May 23, 2017. On May 22, 2017, MSHA published a final rule delaying the effective date to October 2, 2017 (82 FR 23139), to assure that mine operators and miners affected by the final examinations rule have the training and compliance assistance they need prior to the rule's effective date.

At this time, the Agency is proposing to delay the rule's effective date beyond October 2, 2017, to March 2, 2018. As MSHA has reiterated to industry stakeholders, MSHA made a commitment to the industry to hold informational meetings around the country and to develop and distribute compliance assistance material prior to enforcing the rule. MSHA also committed to conducting compliance assistance visits at metal and nonmetal mines throughout the country. Further, extending the effective date would permit more time for MSHA to address issues raised by stakeholders during quarterly training calls and stakeholder meetings and compliance assistance visits. MSHA is considering concerns raised by stakeholders on certain provisions in the rule and how best to address them. MSHA intends to collaborate with and seek input from stakeholders regarding these issues. At the same time, MSHA is seeking comment on a proposed rule that may address some of these issues. The extension also would provide MSHA more time to train its inspectors to help assure consistency in MSHA enforcement. MSHA will make the Agency's inspector training materials available to the mining community to assist miners and mine operators in effectively implementing the rule, thus enhancing the safety of miners.

Wayne D. Palmer,
Acting Assistant Secretary of Labor for Mine Safety and Health.

[FR Doc. 2017-19380 Filed 9-11-17; 8:45 am]

BILLING CODE 4520-43-P